DEPARTMENT OF COMMERCE

National Oceanic and Atmospheric Administration

15 CFR Part 902

50 CFR Part 679

[Docket No. 140311229-4978-02]

RIN 0648-BE09

Fisheries of the Exclusive Economic Zone Off Alaska; Gulf of Alaska Trawl Economic Data Report

AGENCY: National Marine Fisheries Service (NMFS), National Oceanic and Atmospheric Administration (NOAA), Commerce.

ACTION: Final rule.

SUMMARY: NMFS issues a final rule to implement the Gulf of Alaska (GOA) Trawl Economic Data Report Program to evaluate the economic effects of current and potential future fishery management measures for the GOA trawl fisheries. This data collection program will provide the North Pacific Fishery Management Council (Council) and NMFS with baseline economic information on harvesters, crew, processors, and communities active in the GOA trawl fisheries, which will be used to assess the impacts of anticipated future GOA trawl groundfish management measures on stakeholders. The data collected for this program will be submitted by owners and leaseholders of GOA trawl vessels, owners and leaseholders of processors receiving deliveries from those trawl vessels, and owners and leaseholders of trawl catcher/processors. The types of data collected will include, but not be limited to, labor data, revenues, capital and operational expenses, and other operational or financial data. This action is intended to promote the goals and objectives of the Magnuson-Stevens Fishery Conservation and Management Act (Magnuson-Stevens Act), the Fishery Management Plan for Groundfish of the Gulf of Alaska, and other applicable laws.

DATES: Effective: January 1, 2015.

ADDRESSES: Electronic copies of this rule, the Regulatory Impact Review (RIR)/Initial Regulatory Flexibility Analysis (IRFA), Categorical Exclusion, and Final Regulatory Flexibility Analysis (FRFA) prepared for this action may be obtained from http://www.regulations.gov or from the Alaska Region Web site at http://alaskafisheries.noaa.gov. Written comments regarding the burden-hour estimates or other aspects of the collection-of-information requirements contained in this rule may be submitted to NMFS Alaska Region, P.O. Box 21668, Juneau, AK 99802, Attn: Ellen Sebastian, Records Officer; in person at NMFS Alaska Region, 709 West 9th Street, Room 420A, Juneau, AK; and by email to OIRA_Submission@omb.eop.gov or faxed to 202-395-7285.

FOR FURTHER INFORMATION CONTACT: Jeff Hartman, 907-586-7228

SUPPLEMENTARY INFORMATION: NMFS manages the groundfish fisheries in the exclusive economic zone of the GOA and Bering Sea and Aleutian Islands Management Area under the Fishery Management Plan for Groundfish of the Gulf of Alaska and the Fishery Management Plan for Groundfish of the Bering Sea and Aleutian Islands Management Area (collectively, the FMPs). The Council prepared these FMPs under the authority of the Magnuson-Stevens Act, 16 U.S.C. 1801 et seq. Regulations implementing the FMPs appear at 50 CFR part 679. General regulations governing U.S. fisheries also appear at 50 CFR part 600.

This final rule implements the Gulf of Alaska Trawl Economic Data Report Program to collect baseline economic data on the GOA trawl groundfish fishery. The data will help the Council and NMFS to evaluate the effect of a prospective GOA trawl catch share management program on harvesters, processors, and communities. The program will collect data annually from January 1, 2015, onward and require that participants submit the data in an economic data report (EDR). The program will minimize the economic data reporting burden by only collecting reliable, relevant data that NMFS cannot obtain from existing data collections.

The Council is considering new management measures so participants in the GOA trawl fisheries can efficiently reduce prohibited species catch (PSC). One of the management measures the Council is considering for the GOA groundfish trawl fishery is a catch share program. A catch share program allocates exclusive harvest privileges for certain groundfish or shellfish species to specific fishery participants. An exclusive harvest privilege allows fishery participants to tailor their fishing operations, such as choosing when to fish, with their available groundfish or other species allocation. This contrasts with open access programs, where participants engage in a “race for fish” with other fishery participants seeking to maximize their harvest before the total allowable catch is reached.

Given the potential for a catch share program in the GOA, the scope of this action includes participants in trawl fisheries in the West Yakutat District, Central GOA regulatory area, and the Western GOA regulatory area, or processors that receive groundfish from those trawl fishery participants. As described in the proposed rule (79 FR 46758, August 11, 2014), the collection of baseline economic data in these regulatory areas will help the Council and NMFS understand the potential economic and employment impacts of a prospective GOA trawl catch share management program on persons participating in specific job categories of fishing, processing, or administration of fishing operations. The data from this program could help guide future decisions about the management of a GOA trawl catch share program.

Actions Implemented by the Final Rule

The GOA Trawl EDR Program establishes economic data submission requirements. The GOA Trawl EDR Program includes one existing, but revised data submission form, and two new data submission forms. The revised data form, the Annual Trawl Catcher/Processor EDR (Trawl C/P EDR), replaces the EDR currently required under the Amendment 80 Program. Owners and leaseholders of a vessel that was named on a Limited License Program (LLP) groundfish license that authorizes a Catcher/processors (C/Ps) using trawl gear to harvest and process LLP groundfish in the GOA must submit the Trawl C/P EDR form. The two new data submission forms implemented by this rule are the Annual Trawl Catcher Vessel EDR (Trawl CV EDR) form and the Annual Shoreside Processor EDR (Processor EDR) form. Owners and leaseholders of any vessel named on an LLP groundfish license that authorizes a catcher vessel using trawl gear to harvest LLP groundfish species in the GOA must submit the new Trawl CV EDR form. Owners and leaseholders of a shoreside or stationary floating processor with a Federal Processor Permit that processes groundfish caught by vessels with trawl gear in the GOA must submit the new Processor EDR form. These three operational groups and three types of EDRs are described in greater detail in the following sections of this preamble, and in the RIR/IRFA at Section 3.7 and 3.9.

NMFS is publishing this final rule implementing the GOA Trawl EDR Program to collect data to assess the future economic effects of any potential GOA trawl catch share program. The two new EDRs (Trawl CV EDR and Processor EDR), and the revised Trawl C/P EDR are effective on January 1, 2015 to ensure that sufficient data is available to assist NMFS and the Council in making such assessment. As of the effective date of January 1, 2015, all persons required to submit an EDR must begin retaining records used to report on a full calendar year of data. The first annual EDRs will be submitted for the calendar year 2015 in June of the following year (i.e., June 2016), and in June of each subsequent year. This implementation schedule provides the EDR submitters with sufficient time to prepare and maintain records necessary to complete and submit the EDR. Persons subject to the EDR submission requirement are, for example, expected to keep associated GOA trawl invoices starting January 1, 2015, that would then be used to calculate cost figures entered into the 2015 EDR.

Finally, this final rule modifies Amendment 80 program regulations at § 679.94(a) to rename the “Amendment 80 Economic Data Report” as the “Annual Trawl Catcher/Processor Economic Data Report” because the Trawl C/P EDR must now be submitted by all GOA trawl vessel owners and operators, not just the participants in the Amendment 80 Program. The final rule implements new regulations at § 679.94(a)(1) and at § 679.110(a)(3) to require the owner or leaseholder of any vessel named on a Limited License Program (LLP) groundfish license that authorizes a C/P using trawl gear to harvest and process LLP groundfish in the GOA to submit a Trawl C/P EDR as described at § 679.94 for that calendar year.

This action streamlines and removes unnecessary regulatory requirements in the regulations implementing the Amendment 80 EDR, codified at § 679.94. Prior to this rule, the regulatory text described data elements that must be submitted in the Amendment 80 EDR data fields, such as costs for oil, fuel, freight, storage, food, and provisions. Rather than specify all the data that must be submitted in the EDR, this rule amends § 679.94 to state that persons required to submit a Trawl C/P EDR are to do so by filling out a Trawl C/P EDR form. The text removed by this rule is unnecessary because it duplicates instructions on each EDR form that describe each data field and what figures should be entered. Removing the regulatory text specifying data that must be submitted does not eliminate the data submission requirement because the regulations retain the EDR submission requirement.

This streamlined approach for specifying data fields in the data form and not in regulation is also applied to the Trawl CV and Processor EDRs. This approach gives NMFS the flexibility to modify EDR data fields without a corresponding regulatory amendment. Furthermore, this approach will prevent confusion if, as has occurred in the past, the data submission text in the regulations and EDR forms differ. Overall, this approach will provide submitters with a clearer understanding of what data must be submitted. This approach allows NMFS to consult with EDR submitters and the Council, and based on the consultations, amend, add, or remove specific data requests as needed. This approach ensures the EDRs provide the data necessary to assess the economic performance of trawl C/Ps in both the Amendment 80 fishery and the GOA fishery on a timely basis.

Responses to Comments

A proposed rule to implement the GOA Trawl EDR Program was published on August 11, 2014 (79 FR 46758), and the comment period ended September 10, 2014. NMFS received two comment letters on the proposed rule from fishing industry representatives associated with GOA trawl fisheries, and one comment letter from a member of the general public. In addition to the public comment on the proposed rule, NMFS received comments from the Small Business Administration (SBA) on the IRFA. The comments from SBA are addressed in the FRFA prepared for this action (See ADDRESSES) and the Classification section of this final rule.

The comment from a member of the general public opposed the proposed action but the reasons provided for opposition were not directly related to the proposed action. The comment letters from both fishing industry representatives supported the action and contained four specific comments about the GOA Trawl EDR Program. Following is a summary of and response to these four comments.

Comment 1: Two comments addressed the process that will be used in the future to revise the GOA Trawl EDR forms and instructions. Both comments expressed support for the process described in the RIR/IRFA and the proposed rule to vet any future revisions of the EDR forms through the Council. One comment specifically noted that the current GOA Trawl EDR forms are likely to be redrafted once a new trawl catch share program is implemented in the GOA. When this occurs, the commenter anticipates that the GOA Trawl EDR would be modified to capture the objectives as well as to gather information about the new trawl catch share program's economic impacts. The commenter further noted that the proposed rule preamble states that specific data fields on the EDR forms will not be described in regulation and requested clarification of the process through which future revisions will be made to the EDR forms and instructions.

Response: NMFS agrees and below, clarifies the process through which future revisions will be made to GOA Trawl EDR forms and instructions. The GOA Trawl EDR forms and instructions that are submitted to OMB for approval are available on the NMFS Alaska Region Web site at: http://www.alaskafisheries.noaa.gov/sustainablefisheries/trawl/edr.htm. Any proposed or recommended revisions to GOA Trawl EDR forms or instructions will be forwarded to the Council by NMFS Alaska Region staff for review. NMFS will not make any changes to the GOA Trawl EDR forms or instructions, or start the PRA compliance process, without first consulting the Council. At the conclusion of Council review, NMFS Alaska Region staff will prepare and submit GOA trawl EDR form changes to OMB for approval and PRA compliance.

If NMFS identifies any necessary revisions to the GOA Trawl EDR forms or instructions, the NMFS Alaska Region will forward the recommended revisions to the Council's Executive Director. The Council's Executive Director will determine whether the proposed revisions (1) are minor, for example, and do not warrant Council review, or (2) should be reviewed by the Council, including the Scientific and Statistical Committee and Advisory Panel, during a Council meeting. This procedure allows the Council and public to review any future proposed revisions to these three GOA Trawl EDR forms, prior to their implementation.

Comment 2: The commenter states that portions of the Processor EDR that request labor data are not clear and the instructions should clarify the data requested. According to the preamble, on page 46763 of the proposed rule, “these employment data elements would be aggregated in the EDR for all fisheries, GOA management areas, and gear types.” NMFS determined that employment data from processors should not be broken out by fishery because employees may process fish from more than one fishery in a week or month, or participate in more than one type of processing job. The reporting burden for processors to report labor data that is separated by fishery would be burdensome, and potentially delay implementation of this program. Because the preamble states that “the Processor EDR form would collect monthly data on the average number of groundfish processing employment positions and the associated labor hours and wage payments” and that is what is being asked for in Table 1 of the form, the commenter assumes that these are references to groundfish processing only and not non-groundfish processing (e.g., salmon, crab). However, the commenter states, nowhere on the EDR forms are these clarifications articulated.

Response: NMFS agrees that the instructions for the Processor EDR should be revised to clarify that respondents are required to report totals for all groundfish processing labor, aggregating over all groundfish species, fisheries, and locations of catch, and excluding salmon, shellfish, or other non-groundfish processing. Following the process described in the response to Comment 1, NMFS will submit this revision to the Processor EDR instructions to the Council's Executive Director prior to EDR form submission to OMB for PRA compliance and finalization.

Comment 3: The commenter cites to page 46762 of the proposed rule, which states: “based on 2012 data, there are currently 84 LLP licenses endorsed as trawl catcher vessels in the GOA.” Although 84 trawl CVs may have been active in the GOA in 2012, the commenter noted that other documents prepared by Council staff stated that “in 2013, 115 CV LLPs were issued with a trawl endorsement in at least one area in the GOA.”

Response: The commenter is correct that more than 84 LLP licenses endorsed as trawl catcher vessels in the GOA were issued in 2012. The purpose of the quoted statement in the proposed rule was to provide an estimate of the number of people who would be required to submit Trawl CV EDRs. This information was taken from Table 3-1 in the RIR/IRFA (see ADDRESSES), which provided information about both the number of trawl catcher vessels used to harvest groundfish in the GOA, and the total number of LLPs endorsed as trawl catcher vessels in the GOA, from 2010 through 2012.

The instructions for the Trawl CV EDR currently state that “[E]ach owner or leaseholder of a vessel named on a Limited License Program (LLP) groundfish license with catcher vessel and trawl gear designations and endorsed for the Gulf of Alaska (GOA) during a calendar year must submit an Annual Trawl Catcher Vessel EDR for that vessel.” The instructions further state that owners or leaseholders of vessels that were used to harvest groundfish in the GOA in a particular year are required to submit the entire Trawl CV EDR for that year and owners or leaseholders of vessels that were not used to harvest groundfish in the GOA in a particular year are required to submit only the certification pages of the Trawl CV EDR for that year.

In 2014, the total number of LLP licenses endorsed as trawl catcher vessels in the GOA was 124. One hundred and nine unique catcher vessels were named on those 124 LLP licenses. Two LLP licenses were not assigned to a particular vessel. Therefore, 13 of the 109 vessels had more than one LLP license issued in its name. Based on this information, NMFS estimates that approximately 109 vessel owners or leaseholders would be required to submit some portion of the Trawl CV EDR. From 2008 through 2013 about 70 catcher vessels with LLPs endorsed for trawl gear in the GOA landed groundfish caught with trawl gear in the GOA. These 70 vessel owners or lease holders would be required to submit the full EDR. The owners of remaining 39 vessels named on an LLP endorsed for trawl gear in the GOA that do not make landings in a particular year would be required to submit just the certification pages for the Trawl CV EDR. Section 3.7.1 and Tables 3-1 and 3-2 in the RIR have been updated to include this information.

Comment 4: The commenter notes that in April 2014, the Council and NMFS agreed that for the Trawl C/P EDR, the number of days of fishing and processing activity in a year, as collected in Table 2.5 of the form, will differentiate between activity in the Amendment 80 fisheries, Central and Western GOA groundfish trawl fisheries, and in all other fisheries. However, the RIR/IRFA does not have a description of this specific decision point made by the Council.

Response: NMFS agrees that the RIR does not include a description of the activity data reported in Table 2.5 of the Trawl C/P EDR. During the development of the draft EDR form for the Western and Central GOA trawl fisheries, the Council stated that the data collection program's purpose was to assist with the Council's development of the Western and Central GOA limited access management measure. To apply data collected from trawl C/P operations in the Western and Central GOA, a portion of Table 2.5 in the Trawl C/P EDR was created to break out activities that occur in different geographic areas of Alaska. Catch and processing data for trawl C/Ps in the Amendment 80 Program confirm that Amendment 80 Program vessel activity occurs in either the Amendment 80 Program fisheries of the Bering Sea and Aleutian Islands, or in the Western or Central GOA. Therefore, Table 2.5, the vessel activity table, in the Trawl C/P EDR was determined to be the best approach to allocate certain data collected in the Trawl C/P EDR by activities in the Western and Central GOA. While the RIR/IRFA explains that the GOA Trawl EDR Program will be applicable to future Western and Central GOA trawl management measures, it does not detail the decision points outlined here that led to the design of Table 2.5 in the Trawl C/P EDR. The RIR/IRFA has been updated to include a description of the Council's and NMFS' reason for including the revision to Table 2.5.

Changes From the Proposed Rule to the Final Rule

This rule revises § 679.94(a)(4)(i), (a)(4)(ii), (b), (b)(2), and (b)(3); § 679.110(a)(1), (a)(3), (d), (d)(1), (d)(2), (e)(1), (e)(2), and (e)(3) to make editorial changes to clarify the regulations, but do not change the effect of the regulations.

Amendments to 15 CFR 902.1(b)

Section 3507(c)(B)(i) of the PRA requires that agencies inventory and display a current control number assigned by the Director, Office of Management and Budget (OMB), for each agency information collection. In the regulations at 15 CFR 902.1(b), NMFS identifies the control numbers that have been approved and issued by OMB. Because this final rule revises and adds data elements within a collection-of-information for recordkeeping and reporting requirements, this rule revises 15 CFR 902.1(b) to reference correctly the sections that are from this final rule.

Classification

The Administrator, Alaska Region, NMFS determined that this final rule is necessary for the conservation and management of the groundfish fisheries off Alaska and that it is consistent with the Magnuson-Stevens Act and other applicable law.

Final Regulatory Flexibility Analysis (FRFA)

Pursuant to section 604 of the Regulatory Flexibility Act, 5 U.S.C. 601 et seq., a FRFA was prepared for this action. The FRFA incorporates the IRFA, and includes a summary of the significant issues raised by public comments in response to the IRFA, NMFS' responses to those comments, and a summary of the analyses completed to support the action.

A copy of the FRFA prepared for this final rule is available from NMFS (see ADDRESSES). A description of this action, its purpose, and its legal basis are included at the beginning of the preamble to this final rule and are not repeated here. The FRFA is summarized here.

Comments on the IRFA

NMFS published the proposed rule for this action on August 11, 2014 (79 FR 46758). An IRFA was prepared and summarized in the Classification section of the preamble to the proposed rule. The comment period closed on September 10, 2014. NMFS received three public comment letters. These comments did not address the IRFA or the economic impacts of the rule generally.

The Chief Counsel for Advocacy of the SBA commented on the IRFA to the Department of Commerce. These comments included a request that the IRFA be amended to address the following points: 1) Provide a cross-reference to the RIR (Section 2) in the IRFA (or FRFA) to identify the significant alternatives discussed in the RIR; 2) improve the description of small entities directly regulated by the action, by representing them in a table, and provide North American Industry Classification System (NAICS) codes for any category of regulated entities discussed; and 3) expand the discussion on the cost or burden to regulated entities, and apply any previous experience from other NMFS EDRs to use as a basis for reasonable assumptions about costs. Rather than revising the IRFA, which is a completed document accompanying the proposed rule, NMFS is responding to SBA's comments in the FRFA and below.

1. NMFS has provided a cross reference in the FRFA to additional information on significant alternatives for this action found in Section 2 of the RIR/IRFA, and added a description to the FRFA of the eight alternatives and decision points that were considered in this final rule.

2. A table has been added to the FRFA to specify the number of regulated entities and number of small entities that correspond with the NAICS codes and the criteria for determining which entities are small. The NAICS codes that apply to this action are for seafood processing (NAICS 311710) and finfish fishing (NACIS 114111).

3. The cost and burden estimates for this action are added to the FRFA, and have been informed by experience with the three EDRs currently implemented in Alaska groundfish and crab fisheries.

Number and Description of Small Entities Regulated by the Action

The entities directly regulated by this action are 1) those entities that fish groundfish in the Federal waters and parallel fisheries of the GOA with trawl gear, including groundfish catcher vessels and C/Ps (NAICS 114111); 2) shoreside processors or SFPs that take deliveries of groundfish from vessels using trawl gear in the GOA (NAICS 311710); 3) organizations, including cooperatives of finfish fishing vessels with sideboard limits for halibut in the GOA (NAICS 114111); and (4) Community Development Quota (CDQ) groups, which are non-profit organizations (no NAICS code).

The SBA has defined a business primarily involved in finfish harvesting as a small entity if it is independently owned and operated, is not dominant in its field of operation (including its affiliates), and has combined annual gross receipts not in excess of $20.5 million, for all its affiliated operations worldwide. Using this size standard, NMFS identified 52 directly regulated small trawl catcher vessels, 2 directly regulated small C/Ps, 53 directly regulated small shoreside or SFPs, and 2 directly regulated small CDQ groups. NMFS did not identify any directly regulated small cooperatives.

Recordkeeping and Reporting Requirements

This action modifies recordkeeping and reporting requirements for directly regulated entities. The costs and burdens of these requirements are summarized in the discussion of the PRA included in this final rule, and are not repeated here.

Impacts on Small Entities

The alternatives considered by the Council were developed with the goal to minimize economic impacts of a data collection program that collects baseline data on GOA trawl fisheries. That goal has resulted in a limited data collection program that focuses on areas that are of greatest need, as the Council considers further development of a trawl catch share program in the GOA. The preferred alternative chosen by the Council and implemented by this final rule has several elements, including the Trawl C/P EDR, the Trawl CV EDR, and the Processor EDR. The preferred alternative (the action alternative to implement the GOA Trawl EDR Program) places somewhat larger reporting obligations on directly regulated small entities than the alternative of retaining the status quo. There are no alternatives that have a smaller adverse economic impact on directly regulated small entities that still achieve the objectives of the GOA Trawl EDR Program.

NMFS evaluated a number of alternatives to the preferred alternative, including 1) no action; 2) a variety of additional data fields for detecting reasons for decisions to use or not use various PSC avoidance devices or other behaviors to avoid PSC; 3) applying aggregation procedures to the data to limit analysts from having access to individual vessel or processor level observations; 4) collection of landings and production data; 5) creation of blind data for all vessels submitting the Trawl C/P EDR; 6) extending CV logbooks to vessels less than 60 feet length overall; 7) reporting employee activities of vessel owner, operator, or crew for readying a vessel before and after a fishing trip; and 8) itemizing each data reporting field in the GOA Trawl EDR Program in regulation.

The no action alternative (Alternative 1) would not achieve the objectives of this action because much of the economic data on the GOA trawl fisheries and processing operations that are required to evaluate the economic effects of a future GOA trawl catch share management program are not currently collected. Each of the remaining alternatives considered but not proposed, placed additional burden on reporting entities, and were not anticipated to improve the quality and accuracy of data that were necessary for understanding the current economic conditions in the GOA trawl fisheries, or provide substantially improved data to understand the potential impact of a GOA trawl catch share program. None of these alternatives met both the objectives of the action and had a smaller impact on small entities, compared with the preferred alternative.

Thus, no other significant alternatives to the preferred alternative have been identified that meet the Council's goals and objectives of collecting these data without imposing substantially greater economic burdens on industry.

The cost and burden estimates in this FRFA have been informed by experience with the three EDRs currently implemented in Alaska groundfish and crab fisheries. For example, as described in the RIR for this action, many of the variables that were removed from the original annual EDRs currently required of participants in the Crab Rationalization Program fisheries were considered but not included in the two new GOA Trawl EDRs. In addition, many of the data fields that were not selected in the GOA Trawl EDRs are located in other Federal or State of Alaska data collection programs.

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. The preamble to the proposed rule, instructions in the EDR data forms and this final rule serve as the small entity compliance guide required. This action does not require any additional compliance from small entities that is not described in the preamble to the proposed rule, this final rule or EDR data forms. Copies of the proposed rule and final rule are available from the NMFS Alaska Region Web site at http://alaskafisheries.noaa.gov.

Collection-of-Information Requirements

This rule contains collection-of-information requirements subject to the Paperwork Reduction Act (PRA), which have been approved by the Office of Management and Budget (OMB). The requirements are listed below by OMB control number.

OMB Control No. 0648-0564

Public reporting burden is estimated to average 22 hours per response for Trawl Catcher/processor Economic Data Report (EDR).

OMB Control No. 0648-0700

Public reporting burden is estimated to average 15 hours per response for Trawl Catcher Vessel EDR; and three hours per response for the Trawl Shoreside Processor EDR.

Estimated responses include the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB control number. All currently approved NOAA collections of information may be viewed at http://www.cio.noaa.gov/services_programs/prasubs.html.

List of Subjects

15 CFR Part 902

Reporting and recordkeeping requirements.

50 CFR Part 679

Alaska fisheries, Reporting and recordkeeping requirements.

Dated: November 20, 2014.
Samuel D. Rauch III,
Deputy Assistant Administrator for Regulatory Programs, National Marine Fisheries Service.

For the reasons set out in the preamble, NMFS amends 15 CFR part 902 and 50 CFR part 679 as follows:

TITLE 15—COMMERCE AND FOREIGN TRADE

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, in the table in paragraph (b), under the entry “50 CFR”, add entries in alphanumeric order for “679.110(a) through (f)” to read as follows:

§ 902.1 OMB control numbers assigned pursuant to the Paperwork Reduction Act.

* * * * *

(b) * * *

CFR part or section where the information collection requirement is located | Current OMB control number (all numbers begin with 0648-)
* * * * *
50 CFR:
* * * * *
679.110(a) through (f) | -0206, -0334, -0564, -0700
* * * * *

TITLE 50—WILDLIFE AND FISHERIES

PART 679—FISHERIES OF THE EXCLUSIVE ECONOMIC ZONE OFF ALASKA

3. The authority citation for part 679 continues to read as follows:

Authority: 16 U.S.C. 773 et seq.; 1801 et seq.; 3631 et seq.; Pub. L/108-447; Pub. L. 111-281.

4. In § 679.2, add, in alphabetical order, definitions for “Blind data” and “Data collection agent,” and revise the definitions for “Designated data collection auditor” and “Economic data report” to read as follows:

§ 679.2 Definitions.

* * * * *

Blind data means any data collected from an economic data report by the data collection agent that are subsequently amended by removing personal identifiers, including, but not limited to social security numbers, crew permit numbers, names and addresses, Federal fisheries permit numbers, Federal processor permit numbers, Federal tax identification numbers, and State of Alaska vessel registration and permit numbers, and by adding in their place a nonspecific identifier.

* * * * *

Data collection agent (DCA) means the entity selected by the Regional Administrator to distribute an EDR to a person required to complete it, to receive the completed EDR, to review and verify the accuracy of the data in the EDR, and to provide those data to authorized recipients.

* * * * *

Designated data collection auditor (DDCA) means an examiner employed by, or under contract to, the data collection agent (DCA) to verify data submitted in an economic data report or the NMFS-designated contractor to perform the functions of a data collection auditor.

* * * * *

Economic data report (EDR) means the report of cost, labor, earnings, and revenue data required under § 679.65, § 679.94, and § 679.110.

* * * * *

5. Revise § 679.94 to read as follows:

§ 679.94 Economic data report (EDR) for the Amendment 80 sector and Gulf of Alaska Trawl Catcher/Processors.

(a) Annual Trawl Catcher/Processor Economic Data Report (EDR)—(1) Requirement to submit an EDR. A person who held an Amendment 80 QS permit during a calendar year, or an owner or leaseholder of a vessel that was named on a Limited License Program (LLP) groundfish license that authorizes a Catcher/Processor using trawl gear to harvest and process LLP groundfish species in the GOA must submit a complete Annual Trawl Catcher/Processor EDR for that calendar year by following the instructions on the Annual Trawl Catcher/Processor EDR form.

(2) Deadline. A completed EDR or EDR certification pages must be submitted as required on the form to NMFS for each calendar year on or before 1700 hours, A.l.t., June 1 of the following year.

(3) Information required. The Annual Trawl Catcher/Processor EDR form is available on the NMFS Alaska Region Web site at www.alaskafisheries.noaa.gov, or by contacting NMFS at 1-800-304-4846.

(4) EDR certification pages. Any person required to submit an EDR under paragraph (a)(1) of this section, or their designated representative, if applicable, must submit the EDR certification statement as either:

(i) Part of the entire EDR. A person submitting the completed EDR must attest to the accuracy and completion of the EDR by signing and dating the certification portion of the EDR form; or

(ii) EDR certification only. A person submitting a completed EDR certification only must attest that they meet the conditions exempting them from submitting the entire EDR as described in the certification portion of the Annual Trawl Catcher/Processor EDR form and sign and date the certification portion of the EDR form.

(b) Verification of EDR data. (1) NMFS, the DCA, or the DDCA will conduct verification of information with a person required to submit the Annual Trawl Catcher/Processor EDR, or if applicable, that person's designated representative.

(2) A person required to submit the Annual Trawl Catcher/Processor EDR or designated representative, if applicable, must respond to inquiries by NMFS, the designated DCA, or the DDCA within 20 days of the date of issuance of the inquiry.

(3) A person required to submit the Annual Trawl Catcher/Processor EDR or designated representative, if applicable, must provide copies of additional data to facilitate data verification. NMFS, the DCA, or the DDCA may review and request copies of additional data provided by the person required to submit the Annual Trawl Catcher/Processor EDR form or designated representative, if applicable, including but not limited to, previously audited or reviewed financial statements, worksheets, tax returns, invoices, receipts, and other original documents substantiating the data submitted in an Annual Trawl Catcher/Processor EDR form.

6. Add subpart J, consisting of § 679.110, to read as follows:

Subpart J—Gulf of Alaska Trawl Economic Data

§ 679.110 Gulf of Alaska Trawl Economic Data Reports (EDRs).

(a) Requirements to submit an EDR—(1) GOA Trawl Catcher Vessels. The owner or leaseholder of any vessel who is named on a Limited License Program (LLP) groundfish license that authorizes a catcher vessel using trawl gear to harvest LLP groundfish species in the GOA must submit a complete Annual Trawl Catcher Vessel Economic Data Report (EDR) for that calendar year by following the instructions on the Annual Trawl Catcher Vessel EDR form.

(2) GOA Shoreside Processors and Stationary Floating Processors. The owner or leaseholder of a shoreside processor or stationary floating processor with a Federal Processor Permit (FPP) that processes groundfish caught by vessels fishing with trawl gear in the GOA must submit a complete Annual Shoreside Processor Economic Data Report (EDR) for that calendar year by following the instructions on the Annual Shoreside Processor EDR form.

(3) Annual Trawl Catcher/Processor Economic Data Report (EDR). The owner or leaseholder of a vessel that is named on a Limited License Program (LLP) groundfish license that authorizes a Catcher/Processor using trawl gear to harvest and process LLP groundfish in the GOA must submit an Annual Trawl Catcher/Processor EDR as described at § 679.94 for that calendar year.

(b) Deadline. A completed EDR or EDR certification page for:

(1) The Annual Trawl Catcher Vessel EDR or the Annual Shoreside Processor EDR must be submitted to the DCA for each calendar year on or before 1700 hours, A.l.t., June 1 of the following year, or

(2) The Annual Trawl Catcher/Processor EDR must be submitted to NMFS as required at § 679.94(a)(2).

(c) Information required. The Annual Trawl Catcher Vessel EDR, Annual Shoreside Processor EDR, and Annual Trawl Catcher/Processor EDR forms are available on the NMFS Alaska Region Web site at www.alaskafisheries.noaa.gov, or by contacting NMFS at 1-800-304-4846.

(d) EDR certification. A person required to submit an EDR under paragraph (a) of this section, or the designated representative, if applicable, must submit the EDR certification statement as either:

(1) Part of the entire EDR. A person submitting the applicable EDR form must attest to the accuracy and completion of the EDR by signing and dating the certification portion of the applicable EDR form; or

(2) EDR certification only. A person submitting a completed EDR certification only must attest that they meet the conditions exempting them from submitting the entire EDR as described in the certification portion of the applicable EDR form and sign and date the certification portion of the form.

(e) Verification of EDR data. (1) NMFS, the DCA, or the DDCA will conduct verification of information with a person required to submit the applicable EDR, or if applicable, that person's designated representative.

(2) The person required to submit the applicable EDR or designated representative, if applicable, must respond to inquiries by NMFS, the designated DCA, or the DDCA within 20 days of the date of issuance of the inquiry.

(3) The person required to submit the applicable EDR or designated representative, if applicable, must provide copies of additional data to facilitate data verification. NMFS, the DCA, or the DDCA may review and request copies of additional data provided by the person required to submit the applicable EDR form or designated representative, if applicable, including but not limited to, previously audited or reviewed financial statements, worksheets, tax returns, invoices, receipts, and other original documents substantiating the data submitted in an EDR form.

(f) DCA authorization. Except for EDR data submitted as required under § 679.94(a), the DCA is authorized to release unaggregated EDR data to authorized data users in blind data format only.

[FR Doc. 2014-28093 Filed 12-1-14; 8:45 am]

BILLING CODE 3510-22-P